DEPARTMENT OF COMMERCE

National Oceanic and Atmospheric Administration

Availability of Final Evaluation Findings of State Coastal Programs and National Estuarine Research Reserves

AGENCY: Office for Coastal Management (OCM), National Ocean Service (NOS), National Oceanic and Atmospheric Administration (NOAA), Department of Commerce (DOC).

ACTION: Notice of availability of evaluation findings.

SUMMARY: Notice is hereby given of the availability of final evaluation findings of state coastal programs and national estuarine research reserves under Sections 312 and 315 of the Coastal Zone Management Act (CZMA).

ADDRESSES: Copies of these final evaluation findings may be downloaded at http://coast.noaa.gov/czm/evaluations/evaluation_findings/index.html or by submitting a written request to Carrie Hall at Carrie.Hall@noaa.gov.

FOR FURTHER INFORMATION CONTACT: Carrie Hall, Evaluator, Planning and Performance Measurement Program, Office for Coastal Management at Carrie.Hall@noaa.gov or (240) 530-0730.

SUPPLEMENTARY INFORMATION: The NOAA Office for Coastal Management has completed the Coastal Zone Management Program evaluations for the states of Florida, Louisiana, Maryland, and North Carolina. The states were found to be implementing and enforcing their federally approved Coastal Zone Management Programs, addressing the national coastal management objectives identified in CZMA Section 303(2), and adhering to the programmatic terms of their financial assistance awards. In addition, the NOAA Office for Coastal Management has completed the National Estuarine Research Reserve evaluations for Elkhorn Slough, Lake Superior, Chesapeake Bay Maryland, Mission Aransas, and North Carolina. The reserves were found to be adhering to programmatic requirements of the National Estuarine Research Reserve System. NOAA published in the Federal Register notices for public meetings and opportunities to submit public comments on the evaluation of these state Coastal Zone Management Programs (CZMPs) and National Estuarine Research Reserves (NERRs). See 85 FR 50012 (Aug. 17, 2020) (FL CZMP); 84 FR 24104 (May 24, 2019) (LA CZMP); 85 FR 36382 (June 16, 2020) (MD CZMP and Chesapeake Bay MD NERR); 85 FR 54356 (Sept. 1, 2020) (NC CZMP and NC NERR); 84 FR 24101 (May 24, 2019) (Elkhorn Slough NERR); 85 FR 44863 (July 24, 2020) (Lake Superior NERR); and 85 FR 36383 (June 16, 2020) (Mission Aransas NERR). Public comments received are addressed in the final evaluation findings.

Authority: 16 U.S.C. 1458 and 1461(f); 15 CFR 921.40 and 923.133(b)(7).

Keelin Kuipers,
Deputy Director, Office for Coastal Management, National Ocean Service, National Oceanic and Atmospheric Administration.

[FR Doc. 2021-18548 Filed 8-26-21; 8:45 am]

BILLING CODE 3510-JE-P